DEPARTMENT OF ENERGY

Federal Energy Regulatory Commission

[Docket No. EL01-29-000]

Pacific Gas and Electric Company; Notice of Complaint

February 2, 2001.

Take notice that on January 23, 2001, Pacific Gas and Electric Company (PG&E) filed a Complaint against the California Power Exchange Corporation (PX). The Complaint requests that the Commission immediately: (1) Order an accounting of recent invoices sent by the PX to PG&E and (2) stay any attempted liquidation of PG&E's Block Forward Market positions.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before February 12, 2001. Protests will be considered by the Commission in determining the appropriate action to be taken, but will not serve to make protestants parties to the proceeding. Any person wishing to become a party must file a motion to intervene. Copies of this filing are on file with the Commission and are available for public inspection in the Public Reference Room. This filing may also be viewed on the internet at http://www.ferc.fed.us/online/rims.htm (call 202-208-2222) for assistance. Answers to the complaint shall also be due on or before February 12, 2001. Comments and protests may be filed electronically via the internet in lieu of paper. See, 18 CFR 385.2001(a)(1)(iii) and the instructions on the Commission's web site at http://www.ferc.fed.us/efi/doorbell.htm.

David P. Boergers,
Secretary.

[FR Doc. 01-3261 Filed 2-7-01; 8:45 am]

BILLING CODE 6717-01-M